DEPARTMENT OF HEALTH AND HUMAN SERVICES

Substance Abuse and Mental Health Services Administration

Fiscal Year (FY) 2019 Funding Opportunity

AGENCY: Substance Abuse and Mental Health Services Administration, HHS.

ACTION: Notice of intent to award a single source grant to the Community Anti-Drug Coalitions of America (CADCA).

SUMMARY: This notice is to inform the public that the Substance Abuse and Mental Health Services Administration (SAMHSA) intends to award $500,000 (total costs) for up to five years to CADCA for the National Anti-Drug Coalitions Training and Workforce Development Grant. Under this initiative, CADCA will provide training to state and community prevention leaders, including members of anti-drug community coalitions from around the country who are committed to addressing the evolving needs of the behavioral health field, and promote workforce development. Training and workforce development activities supported through this grant include SAMHSA's Prevention Day, the CADCA National Leadership Forum, and CADCA's Mid-Year Training Institute. These activities aim to disseminate knowledge and transfer state-of-the-art information, assisting state and community leaders in developing and implementing evidence-based programs, practices, and policies aligned with the 21st Century Cures Act, the Comprehensive Addition and Recovery Act, the President's Commission on combating drug addiction and the opioid crisis, and other national substance abuse prevention goals, outcomes, and efforts, including underage drinking prevention. This is not a formal request for applications. Assistance will be provided only to CADCA based on the receipt of a satisfactory application that is approved by an independent review group.

Funding Opportunity Title: SP-19-002.

Catalog of Federal Domestic Assistance (CFDA) Number: 93.243.

Authority: Section 516 of the Public Health Services Act, as amended.

Justification

Eligibility for this award is limited to CADCA. The purpose of this grant to provide training and workforce development for thousands of members of community coalitions dedicated to preventing substance abuse through a national leadership workforce development and training event. CADCA is the only national organization that has special expertise and unique broad, national-level experience in working with community anti-drug coalitions. For more than 22 years, coalitions and coalition leadership have turned to CADCA to obtain the assistance they need to implement, operate, and sustain effective local community anti-drug strategies. CADCA will take advantage of the resources of multiple agencies located throughout the federal, state and local governments, philanthropies, and universities to bring the best available knowledge, information, and technology to local community anti-drug coalitions working to prevent and reduce drug use among the youth of America. CADCA is the only identified organization with the required experience and national reach to over 5,000 identified anti-drug coalitions across the country. Significant investments were made over the years to support this program with outstanding results. CADCA has long been recognized in communities as well as states throughout the nation for the technical support it has provided to anti-drug coalitions. As such, it is uniquely qualified and positioned to carry out the requirements of this announcement.

Contact: Odessa Crocker, Substance Abuse and Mental Health Services Administration, 5600 Fishers Lane, Rockville, MD 20857; telephone: (240) 276-1078; email: Odessa.Crocker@samhsa.hhs.gov.

Dated: November 15, 2018.
Carlos Castillo,
Committee Management Officer.

[FR Doc. 2018-25349 Filed 11-20-18; 8:45 am]

BILLING CODE 4162-20-P